SMALL BUSINESS ADMINISTRATION

National Small Business Development Center Advisory Board; Notice of Renewal of Charter

This notice is published in accordance with the provisions of the Federal Advisory Committee Act § 14(a), 5 U.S.C. App. 2 (1998) and advises of the renewal of the U.S. Small Business Administration National Small Business Development Center Advisory Board charter.

The Board will provide advice, counsel and confer with the Associate Administrator, Office of Small Business Development Centers in carrying out her/his programmatic duties. The scope of the Board covers the entire SBDC program.

For further information, please write or call Ellen Thrasher, U. S. Small Business Administration, 409 Third Street, SW., Fourth Floor, Washington, DC 20416. Telephone number (202) 205-6817.

Dated:
Bettie Baca,
Counselor to the Administrator.

[FR Doc. 00-18796 Filed 7-24-00; 8:45 am]

BILLING CODE 8025-01-P